DEPARTMENT OF THE INTERIOR

National Park Service

[NPS-WASO-NAGPRA-NPS0033137; PPWOCRADN0-PCU00RP14.R50000]

Notice of Inventory Completion: Diablo Valley College, Pleasant Hill, CA; Withdrawal

AGENCY: National Park Service, Interior.

ACTION: Notice; withdrawal.

SUMMARY: Diablo Valley College, a campus of Contra Costa Community College District, is rescinding a Notice of Inventory Completion published in the Federal Register on April 1, 2021.

DATES: This withdrawal is effective December 17, 2021.

FOR FURTHER INFORMATION CONTACT: Susan Lamb, President, Diablo Valley College, 321 Golf Club Road, Pleasant Hill, CA 94523, telephone (925) 969-2001, email slamb@dvc.edu.

SUPPLEMENTARY INFORMATION: In the Federal Register of April 1, 2021, withdraw FR Doc 2021-06656.

Authority: 86 FR 17189.

Dated: December 10, 2021.
Melanie O'Brien,
Manager, National NAGPRA Program.

[FR Doc. 2021-27355 Filed 12-16-21; 8:45 am]

BILLING CODE 4312-52-P